DEPARTMENT OF HEALTH AND HUMAN SERVICES

Notification of Charter Renewal: National Preparedness and Response Science Board (Previously Known as the National Biodefense Science Board)

AGENCY: Office of the Secretary, Department of Health and Human Services.

ACTION: Notice.

SUMMARY: The Secretary of the Department of Health and Human Services has renewed the charter of the National Preparedness and Response Science Board (NPRSB), previously known as the National Biodefense Science Board, for an additional two-year period through July 3, 2016.

FOR FURTHER INFORMATION CONTACT: Please submit any inquiries to CAPT Charlotte Spires, DVM, MPH, DACVPM, Executive Director and Designated Federal Official, National Preparedness and Response Science Board, Office of the Assistant Secretary for Preparedness and Response, U.S. Department of Health and Human Services, Thomas P. O'Neill Federal Building, Room number 14F18, 200 C St. SW., Washington, DC 20024; Office: 202-260-0627, Email address: charlotte.spires@hhs.gov.

SUPPLEMENTARY INFORMATION: As stipulated by the Federal Advisory Committee Act (FACA), 5 U.S.C. App. 2 Section 9(c), the U.S. Department of Health and Human Services is hereby giving notice of the renewal of the NPRSB charter for an additional two-year period. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Dated: June 13, 2014.
Nicole Lurie,
Assistant Secretary for Preparedness and Response.

[FR Doc. 2014-14628 Filed 6-23-14; 8:45 am]

BILLING CODE 4150-37-P